NATIONAL ARCHIVES AND RECORDS ADMINISTRATION

36 CFR Part 1280

[NARA-06-0005]

RIN 3095-AB55

Use of NARA Facilities

AGENCY: National Archives and Records Administration (NARA).

ACTION: Proposed rule.

SUMMARY: The proposed rule would revise NARA's policy on the inspection of personal property in the possession of a contractor, employee, student intern, visitor, volunteer or other person on NARA properties. Because NARA's current regulations apply specifically only to visitors on NARA property, the revised rule clarifies that all persons arriving on, working at, visiting, or departing from NARA property are subject to the inspection of their personal property. The proposed rule would also amend NARA's current regulations to include additional properties under NARA control. This rule will affect members of the public, members of Federal agencies, NARA employees, NARA contract-employees and NARA volunteers.

DATES: Comments are due by November 27, 2006.

ADDRESSES: NARA invites interested persons to submit comments on this proposed rule. Please include “Attn: RIN 3095-AB55” and your name and mailing address in your comments. Comments may be submitted by any of the following methods:

• Federal eRulemaking Portal: http://www.regulations.gov. Follow the instructions for submitting comments.

• Fax: Submit comments by facsimile transmission to 301-837-0319.

• Mail: Send comments to Regulations Comments Desk (NPOL), Room 4100, Policy and Planning Staff, National Archives and Records Administration, 8601 Adelphi Road, College Park, MD 20740-6001.

• Hand Delivery or Courier: Deliver comments to 8601 Adelphi Road, College Park, MD.

FOR FURTHER INFORMATION CONTACT: Jeffrey Landou at 301-837-1899 or fax number 301-837-0293.

SUPPLEMENTARY INFORMATION:

Background

The Archivist prescribes rules that ensure the safety and preservation of the holdings subject to NARA's authority. NARA has a staff of over 3,000 people nationwide and receives over three million visitors to its facilities. With a combined volume of 27 million cubic feet of traditional holdings and 500,000 artifacts, the challenges of safeguarding the holdings are both difficult and complex.

Incidents of theft by researchers and unauthorized removal of documents by former NARA staff have resulted in heightened security precautions in NARA facilities. Additional safeguards implemented during the past year include background checks for volunteers working with original records and artifacts, closed circuit video cameras in all regional archives and Presidential library research rooms, and the opening of a classified research room at the National Archives Building in Washington, DC. NARA regulations concerning conduct of NARA contractors, employees, student interns, visitors and volunteers are being revised to strengthen the current policies.

The following section of the SUPPLEMENTARY INFORMATION discusses the regulations that we are proposing be revised.

This proposed rule clarifies NARA's policy regarding inspection of personal property in the possession of a contractor, employee, student intern, visitor, volunteer or other person on property under NARA's control. It specifically provides that all people who arrive, work at, or visit NARA-controlled facilities are subject to the inspection of their personal property. The General Services Administration's (GSA) regulations at 41 CFR 102-74 provide for the inspection of personal property in the possession of all people who arrive, work at, or visit NARA facilities controlled by GSA, but NARA's regulations at 36 CFR 1280.8 specifically provide, at the current time, only for the inspection of personal property of visitors on NARA-controlled property.

NARA controlled properties are those listed in 36 CFR 1280.2. We have identified in 36 CFR 1280.2 three additional NARA-controlled properties that have come into the NARA system since this part was last updated.

The regulations at 41 CFR part 102-74 will continue to provide the authority to inspect all packages, briefcases, and other containers in the possession of all persons on property under the control of GSA.

This proposed rule is not a significant regulatory action for the purposes of Executive Order 12866 and has not been reviewed by the Office of Management and Budget. As required by the Regulatory Flexibility Act, I certify that this rule will not have a significant impact on a substantial number of small entities because this proposed rule affects NARA contractors, employees, student interns, visitors, volunteers and other persons on NARA controlled property. This regulation does not have any federalism implications.

List of Subjects in 36 CFR Part 1280

Archives and records.

For the reasons set forth in the preamble, NARA proposes to amend part 1280 of title 36, Code of Federal Regulations as follows:

PART 1280—USE OF NARA FACILITIES

1. The authority citation for part 1280 continues to read as follows:

Authority: 44 U.S.C. 2104(a).

2. Revise the heading for part 1280 to read as set forth above:

3. Amend § 1280.2 to add paragraphs (d), (e), and (f) to read as follows:

§ 1280.2 What property is under the control of the Archivist of the United States?

* * * * *

(d) The National Archives Southwest Region. The National Archives Southeast Region in Morrow, Georgia as specified in 36 CFR 1253.7 (e).

(e) The Federal Records Centers. The Federal Records Centers in Ellenwood, Georgia, and Riverside, California, as specified in 36 CFR 1253.6 (d) and (l), respectively.

(f) Additional Facilities. As other properties come under the control of the Archivist of the United States, they will be listed in these regulations as soon as practicable.

§§ 1280.4, 1280.6 and 1280.8 [Redesignated as §§ 1280.6, 1280.8 and 1280.4]

4. In Subpart A, redesignate §§ 1280.4, 1280.6 and 1280.8 as §§ 1280.6, 1280.8 and 1280.4, respectively.

5. Revise newly designated § 1280.4 to read as follows:

§ 1280.4 What items are subject to inspection by NARA?

NARA may, at its discretion, inspect the personal property in the possession of any NARA contractor, employee, student intern, visitor, volunteer, or other person arriving on, working at, visiting, or departing from NARA property.

Dated: September 22, 2006.
Allen Weinstein,
Archivist of the United States.

[FR Doc. E6-15927 Filed 9-27-06; 8:45 am]

BILLING CODE 7515-01-P